DEPARTMENT OF STATE

[Public Notice: 9242]

Determination by the Secretary of State Relating to Iran Sanctions

ACTION: Notice.

The Secretary of State determined on August 13, 2015, pursuant to Section 1245(d)(4)(D) of the National Defense Authorization Act for Fiscal Year 2012 (NDAA), (Pub. L. 112-81), as amended, that as of August 14, 2015, each of the following countries: Belgium, the Czech Republic, France, Germany, Greece, Italy, the Netherlands, Poland, Spain, Sri Lanka, and the United Kingdom have maintained their crude oil purchases from Iran at zero over the preceding 180-day period. The Secretary of State last made exception determinations under Section 1245(d)(4)(D) of the NDAA regarding these purchasers on February 19, 2015.

FOR FURTHER INFORMATION CONTACT: Alex Whittington, Deputy Director, Office of the Middle East and Asia, Bureau of Energy Resources, 202-736-7149, WhittingtonAE@state.gov.

Dated: August 24, 2015.
Amos Hochstein,
Special Envoy and Coordinator for International Energy Affairs, Bureau of Energy Resources, U.S. Department of State.

[FR Doc. 2015-21489 Filed 8-28-15; 8:45 am]

BILLING CODE 4710-AE-P